DEPARTMENT OF JUSTICE

Notice of Lodging of Proposed Modification of Consent Decree Under the Clean Water Act and Oil Pollution Act

On August 8, 2018, the Department of Justice lodged with the United States District Court for the Western District of Michigan a proposed Third Modification of Consent Decree in the lawsuit entitled United States v. Enbridge Energy, Limited Partnership, et al., Civil Action No. 1:16-cv-914.

On May 23, 2017, the United States District Court for the Western District of Michigan approved and entered a Consent Decree that resolved specified claims asserted by the United States against Enbridge Energy, Limited Partnership and eight affiliated entities (“Enbridge”) under the Clean Water Act and Oil Pollution Act arising from two separate 2010 oil spills resulting from failures of Enbridge oil transmission pipelines near Marshall, Michigan and Romeoville, Illinois. The complaint filed by the United States alleged that Enbridge's pipelines had unlawfully discharged oil into waters of the United States and sought civil penalties, recovery of removal costs, and injunctive relief. The Consent Decree established various requirements applicable to a network of 14 pipelines that comprise Enbridge's Lakehead System—including requirements governing the installation of additional screw anchor supports along a portion of Enbridge's Line 5 pipeline located within the Straits of Mackinac, in Michigan. The proposed Third Modification of Consent Decree revises and clarifies the scope of the screw anchor installation provision set forth in Paragraph 68 of the Consent Decree approved by the Court. The proposed Third Modification identifies 70 specific locations where screw anchors are required to be installed based on information provided in a 2016 underwater inspection of Line 5 in the Straits of Mackinac. The proposed Third Modification also establishes revised criteria that would govern installation of any additional screw anchors that may be needed if future underwater inspections of Line 5 document changed conditions within the Straits of Mackinac.

The publication of this notice opens a period for public comment on the proposed Third Modification of Consent Decree. Comments should be addressed to the Assistant Attorney General, Environment and Natural Resources Division, and should refer to United States v. Enbridge Energy, Limited Partnership, et al., D.J. Ref. No. 90-5-1-1-10099. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Third Modification of Consent Decree may be examined and downloaded at this Justice Department website: https://www.justice.gov/enrd/consent-decrees. The Justice Department will provide a paper copy of the proposed Third Modification of Consent Decree upon written request and payment of reproduction costs. Please mail your request and payment to: Consent Decree Library, U.S. DOJ-ENRD, P.O. Box 7611, Washington, DC 20044-7611.

In requesting a paper copy, please enclose a check or money order for $5.50 (25 cents per page reproduction cost) payable to the United States Treasury.

Randall M. Stone,
Acting Assistant Section Chief, Environmental Enforcement Section, Environment and Natural Resources Division.

[FR Doc. 2018-17378 Filed 8-13-18; 8:45 am]

BILLING CODE 4410-15-P